DEPARTMENT OF AGRICULTURE

Animal and Plant Health Inspection Service

[Docket No. 05-036-1]

Notice of Request for Approval of an Information Collection; Cooperative Wildlife Damage Management Programs

AGENCY: Animal and Plant Health Inspection Service, USDA.

ACTION: New information collection; comment request.

SUMMARY: In accordance with the Paperwork Reduction Act of 1995, this notice announces the Animal and Plant Health Inspection Service's intention to request approval by the Office of Management and Budget of an information collection associated with wildlife damage management programs.

DATES: We will consider all comments that we receive on or before August 9, 2005.

ADDRESSES: You may submit comments by any of the following methods:

EDOCKET: Go to http://www.epa.gov/feddocket to submit or view public comments, access the index listing of the contents of the official public docket, and to access those documents in the public docket that are available electronically. Once you have entered EDOCKET, click on the “View Open APHIS Dockets” link to locate this document.

Postal Mail/Commercial Delivery: Please send four copies of your comment (an original and three copies) to Docket No. 05-036-1, Regulatory Analysis and Development, PPD, APHIS, Station 3C71, 4700 River Road Unit 118, Riverdale, MD 20737-1238. Please state that your comment refers to Docket No. 05-036-1.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: For information on the information collection associated with wildlife damage management programs, contact Mr. Robert P. Myers, Wildlife Biologist, Wildlife Services, APHIS, 4700 River Road Unit 87, Riverdale, MD 20737; (301) 734-7921. For copies of more detailed information on the information collection, contact Mrs. Celeste Sickles, APHIS' Information Collection Coordinator, at (301) 734-7477.

SUPPLEMENTARY INFORMATION: Title: Cooperative Wildlife Damage Management Programs.

OMB Number: 0579-XXXX.

Type of Request: Approval of a new information collection.

Abstract: As authorized by the Act of 1931 (7 U.S.C. 426-426c; 46 Stat. 1468) as amended, the Secretary of Agriculture may conduct activities and enter into agreements with States, local jurisdictions, individuals, public and private agencies, organizations, and institutions in the control of nuisance mammals and birds and those mammal and bird species that are reservoirs for zoonotic diseases.

Wildlife Services (WS) of the Animal and Plant Health Inspection Service (APHIS), U.S. Department of Agriculture (USDA), cooperates with Federal agencies, State and local governments, and private individuals to research and implement the best methods of managing conflicts between wildlife and human health and safety, agriculture, property, and natural resources.

As part of the WS program, WS enters into agreements to document the terms and conditions for cooperating with parties outside of APHIS.

In the normal course of business in response to requests for assistance in managing wildlife damage, WS collects information about organizations, industry, Federal and non-Federal entities, and members of the public as part of its program. Program activities usually consist of either cooperative direct control or technical assistance programs. In the former, WS provides goods, services, and expertise to address wildlife damage. Clients must reimburse USDA for expenses and time spent by WS to conduct these kinds of programs. In the latter, WS gives advice in the form of telephone consultations, personal onsite consultations, training sessions, demonstration projects, etc. WS usually provides only technical expertise in these activities, and the client usually conducts whatever activities are likely to manage the wildlife damage occurring. Such activities are usually free to the public.

All persons who receive assistance from WS are referred to as “cooperators,” and any information provided by clients to WS is voluntary.

Information is used by the agency to:

Identify cooperators appropriately.

Identify lands on which WS personnel will work.

Differentiate between cooperators (i.e., property owners, land managers, or resource owners) who request assistance to manage damage caused by wildlife.

Identify the land areas on which wildlife damage management activities would be conducted.

Identify the relationship between resources or property and the damage caused by wildlife.

Determine the methods or damage management activities to deal with the damage.

Establish a record that a cooperative agreement has been entered into with a cooperator.

Document that permission has been obtained from landowners to go on the cooperator's property.

Record wildlife damage occurrences on cooperator's property and steps to address them.

Record occurrences which may have affected non-target species or humans during, or related to, WS project actions.

Determine satisfaction with service to help WS evaluate, modify, and improve its programs.

We are asking the Office of Management and Budget (OMB) to approve our use of these information collection activities for 3 years.

The purpose of this notice is to solicit comments from the public (as well as affected agencies) concerning this information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.0558761 hours per response.

Respondents: Federal, State, and local agencies and the public who request services from WS or engage in wildlife damage management projects with WS.

Estimated annual number of respondents: 95,000.

Estimated annual number of responses per respondent: 0.996.

Estimated annual number of responses: 94,620.

Estimated total annual burden on respondents: 5,287 hours. (Due to averaging, the total annual burden hours may not equal the product of the annual number of responses multiplied by the reporting burden per response.)

All responses to this notice will be summarized and included in the request for OMB approval. All comments will also become a matter of public record.

Done in Washington, DC, this 6th day of June 2005.
Elizabeth E. Gaston,
Acting Administrator, Animal and Plant Health Inspection Service.

[FR Doc. E5-3011 Filed 6-9-05; 8:45 am]

BILLING CODE 3410-34-P